DEPARTMENT OF ENERGY

Federal Energy Regulatory Commission

[Docket No. RP02-353-000]

Reliant Energy Gas Transmission Company; Notice of Take-or-Pay Cost

June 6, 2002.

Take notice that on June 3, 2002, Reliant Energy Gas Transmission Company (REGT) tendered for filing an annual take-or-pay cost recovery filing including a statement of the customer allocation of REGT's final take-or-pay cost recovery.

REGT states that the filing is submitted in compliance with the Stipulation and Agreement (Settlement) approved by Commission order in Docket No. RP91-149 on March 31, 1992. Arkla Energy Resources, a division of Arkla, Inc., 58 FERC ] 61,359 (1992). REGT's filing is its tenth and final annual filing pursuant to the Settlement.

REGT states that it has served its filing on each of its authorized tariff holders, firm customers and applicable state commissions.

Any person desiring to be heard or to protest said filing should file a motion to intervene or a protest with the Federal Energy Regulatory Commission, 888 First Street, NE, Washington, DC 20426, in accordance with Sections 385.214 or 385.211 of the Commission's Rules and Regulations. All such motions or protests must be filed on or before June 13, 2002. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-14891 Filed 6-12-02; 8:45 am]

BILLING CODE 6717-01-P